DEPARTMENT OF STATE

[Public Notice: 10503]

30-Day Notice of Proposed Information Collection: Application for Nonimmigrant Visa

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to September 27, 2018.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

SUPPLEMENTARY INFORMATION:

• Title of Information Collection: Application for Nonimmigrant Visa.

• OMB Control Number: 1405-0182.

• Type of Request: Revision of a Currently Approved Collection.

• Originating Office: Bureau of Consular Affairs, Visa Office (CA/VO).

• Form Number: DS-160 and DS-156.

• Respondents: All Nonimmigrant Visa Applicants.

• Estimated Number of Respondents: 14,000,000.

• Estimated Number of Responses: 14,000,000.

• Average Time per Response: 90 Minutes.

• Total Estimated Burden Time: 21,000,000 Annual Hours.

• Frequency: Once per respondent's application.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Online Application for Nonimmigrant Visa (DS-160) is used to collect biographical information from individuals seeking a nonimmigrant visa. The consular officer uses the information collected to determine the applicant's eligibility for a visa. Form DS-156 is required by regulation of all nonimmigrant visa applicants who do not use the Online Application for Nonimmigrant Visa (Form DS-160). Posts will use the DS-156 in limited circumstances when the DS-160 is unavailable, as outlined below, to elicit information necessary to determine an applicant's visa eligibility.

Methodology

The DS-160 will be submitted electronically over industry standard encryption technology to maintain a secure connection to the Department via the internet. The applicant will be instructed to print a confirmation page containing a bar coded record locator, which will be scanned at the time of processing. The Nonimmigrant Visa Application (DS-156) paper version will be used only in the following limited circumstances when applicants cannot access the DS-160:

• An applicant has an urgent medical or humanitarian travel need and the consular officer has received explicit permission from the Visa Office to accept form DS-156;

• The applicant is a student exchange visitor who must leave immediately in order to arrive on time for his/her course and the consular officer has explicit permission from the Visa Office to accept form DS-156;

• The applicant is a diplomatic or official traveler with urgent government business and form DS-160 has been unavailable for more than four hours; or

• Form DS-160 has been unavailable for more than three days and the officer receives explicit permission from the Visa Office.

In order to obtain a copy of form DS-156, an applicant must contact the Embassy or consulate at which he or she is applying, and request a copy.

Additional Information

This collection is being revised to include both nonimmigrant visa application methods: The online version (form DS-160) which is used by the vast majority of applications, and the paper version (form DS-156) which is used in limited circumstances. Currently, the online application and paper application are approved under two separate collections. With this renewal, the Department seeks to combine these into a single collection. Upon approval, the Department will seek to discontinue OMB Control Number 1405-0018, the existing collection for form DS-156.

The Department also is revising the collection to add several additional questions for most nonimmigrant visa applicants. One question lists multiple social media platforms and requires the applicant to provide any identifiers used by applicants for those platforms during the five years preceding the date of application. The platforms listed may be updated by the Department by adding or removing platforms. Additional platforms will be added only if collection is consistent with the uses described in the Supporting Statement and after Office of Management and Budget approval. In addition, the applicant will be given the option to provide information about any social media identifiers associated with any platforms other than those that are listed that the applicant has used in the last five years. The Department will collect this information from visa applicants for identity resolution and vetting purposes based on statutory visa eligibility standards; however, the Department does not intend to routinely require applicants for specific visa classifications, such as most diplomatic and official visa applicants, to respond to this question. Other questions seek five years of previously used telephone numbers, email addresses, and international travel; whether the applicant has been deported or removed from any country; and whether specified family members have been involved in terrorist activities. Additionally, some E nonimmigrant visa applicants will be asked whether the principal treaty trader was issued a visa. The “Sign and Submit” statement will provide applicants additional information related to correcting records within Federal Bureau of Investigation databases. Finally, the revised visa application forms will include additional information regarding the visa medical examination that some applicants may be required to undergo. Additional details of the changes are available in supporting documents.

Carl C. Risch,
Assistant Secretary, Bureau of Consular Affairs, Department of State.

[FR Doc. 2018-18594 Filed 8-27-18; 8:45 am]

BILLING CODE 4710-06-P